DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Advance Monthly Retail Trade Survey (MARTS).

OMB Control Number: 0607-0104.

Form Number(s): SM-4412A, SM-4412AE, SM-4412AS, and SM-7212A.

Type of Request: Extension of a currently approved collection.

Number of Respondents: 4,900.

Average Hours per Response: 5 minutes.

Burden Hours: 4,900.

Needs and Uses: The Advance Monthly Retail Trade Survey (MARTS) is administered monthly to a sample of employer firms (i.e., businesses with paid employees) with establishments located in the United States and classified in retail trade and/or food services sectors as defined by the North American Industry Classification System (NAICS). MARTS began in 1953 as a monthly survey for activity taking place during the previous month. MARTS was developed in response to requests by government, business, and other users to provide an early indication of current retail trade activity in the United States. Retail sales are one of the primary measures of consumer demand for both durable and non-durable goods. MARTS also provides an estimate of monthly sales at food service establishments and drinking places.

The results from MARTS provide the earliest possible look at consumer spending. Without MARTS, the Census Bureau's earliest measure of retail sales is the “preliminary” estimate from the full monthly sample, Month Retail Trade Survey (MRTS), released approximately 6 weeks after the end of the reference month. Advance estimates are released approximately 9 working days after the reference month.

This survey uses a multi-mode data collection process that includes Internet reporting (Centurion), fax, telephone, and mail. The survey requests sales and e-commerce sales for the month just ending. If reporting data for a period other than the calendar month, the survey asks for the period's length (4 or 5 weeks) and the date on which the period ended. The survey also asks for the number of establishments covered by the data provided and whether or not the sales data provided are estimates or more accurate “book” figures.

The survey results are published on the Census Bureau's Web site, http://www.census.gov/retail.

The U.S. Census Bureau tabulates the collected data to provide, with measured reliability, statistics on United States retail sales. These estimates are especially valued by data users because of their timeliness. There would be approximately a 6 week delay in the availability of these statistics if this survey were not conducted.

The sales estimates are used by the Bureau of Economic Analysis (BEA), Council of Economic Advisers (CEA), Federal Reserve Board (FRB), Bureau of Labor Statistics (BLS), and other government agencies, as well as business users in formulating economic decisions.

BEA uses the survey results as critical inputs to the calculation of the personal consumption expenditures component (PCE) of Gross Domestic Product (GDP). Specifically, BEA Chief Statistician states “this important survey is our main data source for key components of BEA's economic statistics. Data on retail sales are used to prepare monthly estimates of personal consumption expenditures component of gross domestic product for all PCE goods categories, except tobacco, prescription drugs, motor vehicles, and gasoline end oil. These estimates are also published each month in the Personal Income and Outlays press release”. In first quarter 2015, PCE comprised 68 percent of total GDP. PCE Goods (retail) was 32 percent of the PCE estimate.

CEA and other government agencies and businesses use the survey results to formulate and make decisions. CEA reports the retail data, one of the principal federal economic indicators, to the President each month for awareness on the current picture on the “state of the economy” and presents the data in one of the tables in Economic Indicators, a monthly publication prepared for Congress and the public. In addition, CEA's Macroeconomic Forecaster uses the retail sales data, one of the key monthly data releases each month, to keep track of real economic growth in the current quarter. According to CEA, spending components in the retail sales report constitute about 25 percent of the GDP, well in excess of any other indicator.

Policymakers such as the FRB need to have the timeliest estimates in order to anticipate economic trends and act accordingly. BLS uses the estimates to develop consumer price indexes used in inflation and cost of living calculations. In addition, businesses use the estimates to measure how they are performing and predict future demand for their products.

Affected Public: Business or other for-profit.

Frequency: Monthly.

Respondent's Obligation: Voluntary.

Legal Authority: Title 13, United States Code, sections 131 and 182.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: August 10, 2015.
Glenna Mickelson,
Management Analyst, Office of the Chief Information Officer.

[FR Doc. 2015-19911 Filed 8-12-15; 8:45 am]

BILLING CODE 3510-07-P